DEPARTMENT OF COMMERCE

International Trade Administration

[A-570-967]

Aluminum Extrusions From the People's Republic of China: Final Results of Antidumping Duty Administrative Review; 2014-2015

AGENCY: Enforcement and Compliance, International Trade Administration, Department of Commerce.

SUMMARY: The Department of Commerce (the Department) is conducting an administrative review of the antidumping duty order on aluminum extrusions from the People's Republic of China (PRC). The period of review (POR) is May 1, 2014 through April 30, 2015. These final results cover 46 companies for which an administrative review was initiated and not rescinded. The Department selected the following companies as mandatory respondents: Guangzhou Jangho Curtain Wall System Engineering Co., Ltd. and Jangho Curtain Wall Hong Kong Ltd. (collectively, Jangho) and Guang Ya Aluminium Industries Co., Ltd., Foshan Guangcheng Aluminium Co., Ltd., Kong Ah International Company Limited, and Guang Ya Aluminium Industries (Hong Kong) Ltd. (collectively, Guang Ya Group); Guangdong Zhongya Aluminium Company Limited, Zhongya Shaped Aluminium (HK) Holding Limited, and Karlton Aluminum Company Ltd. (collectively, Zhongya); and Xinya Aluminum & Stainless Steel Product Co., Ltd. (Xinya) (collectively, Guang Ya Group/Zhongya/Xinya). The Department finds that Jangho, Guang Ya Group/Zhongya/Xinya, and 23 other companies subject to this review did not demonstrate eligibility for a separate rate, and, accordingly, are to be considered part of the PRC-wide entity. We also determine for these final results that two companies, Xin Wei Aluminum Company Limited and Permasteelisa Hong Kong Limited, had no shipments during the POR. Finally, we find that eight companies, including JMA (HK) Company Limited (JMA), continue to be eligible for a separate rate.

DATES: Effective November 28, 2016.

FOR FURTHER INFORMATION CONTACT: Deborah Scott or Mark Flessner, AD/CVD Operations, Office VI, Enforcement and Compliance, International Trade Administration, Department of Commerce, 1401 Constitution Avenue NW., Washington, DC 20230; telephone: (202) 482-2657 or (202) 482-6312, respectively.

SUPPLEMENTARY INFORMATION:

Background

The Department initiated this review on July 1, 2015.¹ On June 14, 2016, the Department published the Preliminary Results of this administrative review.² At that time, we invited interested parties to comment on the Preliminary Results. On July 6, 2016, JMA submitted a letter stating that it was officially withdrawing from participation in this review and requesting that the Department remove all of JMA's submissions from the record.³ On July 14, 2016, we received a case brief from the Aluminum Extrusions Fair Trade Committee (Petitioner).⁴ On July 19, 2016, we received a rebuttal brief from Jangho.⁵ On October 3, 2016, the Department extended the deadline for the final results of this administrative review until November 21, 2016.⁶

¹ See Initiation of Antidumping and Countervailing Duty Administrative Reviews, 80 FR 37588 (July 1, 2015) (Initiation Notice).

² See Aluminum Extrusions From the People's Republic of China: Preliminary Results of Antidumping Duty Administrative Review and Rescission of Review in Part; 2014-2015, 81 FR 38664 (June 14, 2016) (Preliminary Results), and accompanying preliminary decision memorandum (Preliminary Decision Memorandum).

³ See Letter from JMA to the Department, “Aluminum Extrusions from China; Withdrawal from Participation,” dated July 6, 2016.

⁴ See Letter from Petitioner to the Department, “Aluminum Extrusions from the People's Republic of China: Case Brief,” dated July 14, 2016 (Petitioner's Case Brief).

⁵ See Letter from Jangho to the Department, “Aluminum Extrusions from the People's Republic of China: Rebuttal Brief,” dated July 19, 2016 (Jangho's Rebuttal Brief).

⁶ See Memorandum from Chelsey Simonovich to Christian Marsh, Deputy Assistant Secretary for Antidumping and Countervailing Duty Operations, “Aluminum Extrusions from the People's Republic of China: Extension of Time Limit for Final Results of Antidumping Duty Administrative Review,” dated October 3, 2016.

These final results cover 46 companies for which an administrative review was initiated and not rescinded.⁷

⁷ This administrative review initially covered 175 companies. See Initiation Notice. However, the Department rescinded this review with respect to 129 companies for which all administrative review requests were timely withdrawn. See Preliminary Results, 81 FR at 38665.

Scope of the Order

The merchandise covered by the Order ⁸ is aluminum extrusions which are shapes and forms, produced by an extrusion process, made from aluminum alloys having metallic elements corresponding to the alloy series designations published by The Aluminum Association commencing with the numbers 1, 3, and 6 (or proprietary equivalents or other certifying body equivalents).⁹

⁸ See Aluminum Extrusions from the People's Republic of China: Antidumping Duty Order, 76 FR 30650 (May 26, 2011) (Order).

⁹ For a complete description of the scope of the Order, see Memorandum from Christian Marsh, Deputy Assistant Secretary for Antidumping and Countervailing Duty Operations, to Paul Piquado, Assistant Secretary for Enforcement and Compliance, “Issues and Decision Memorandum for the Final Results of the 2014-2015 Administrative Review of the Antidumping Duty Order on Aluminum Extrusions from the People's Republic of China,” dated concurrently with this notice (Issues and Decision Memorandum).

Imports of the subject merchandise are provided for under the following categories of the Harmonized Tariff Schedule of the United States (HTSUS): 8481.90.9060, 8481.90.9085, 9031.90.9195, 8424.90.9080, 9405.99.4020, 9031.90.90.95, 7616.10.90.90, 7609.00.00, 7610.10.00, 7610.90.00, 7615.10.30, 7615.10.71, 7615.10.91, 7615.19.10, 7615.19.30, 7615.19.50, 7615.19.70, 7615.19.90, 7615.20.00, 7616.99.10, 7616.99.50, 8479.89.98, 8479.90.94, 8513.90.20, 9403.10.00, 9403.20.00, 7604.21.00.00, 7604.29.10.00, 7604.29.30.10, 7604.29.30.50, 7604.29.50.30, 7604.29.50.60, 7608.20.00.30, 7608.20.00.90, 8302.10.30.00, 8302.10.60.30, 8302.10.60.60, 8302.10.60.90, 8302.20.00.00, 8302.30.30.10, 8302.30.30.60, 8302.41.30.00, 8302.41.60.15, 8302.41.60.45, 8302.41.60.50, 8302.41.60.80, 8302.42.30.10, 8302.42.30.15, 8302.42.30.65, 8302.49.60.35, 8302.49.60.45, 8302.49.60.55, 8302.49.60.85, 8302.50.00.00, 8302.60.90.00, 8305.10.00.50, 8306.30.00.00, 8414.59.60.90, 8415.90.80.45, 8418.99.80.05, 8418.99.80.50, 8418.99.80.60, 8419.90.10.00, 8422.90.06.40, 8473.30.20.00, 8473.30.51.00, 8479.90.85.00, 8486.90.00.00, 8487.90.00.80, 8503.00.95.20, 8508.70.00.00, 8515.90.20.00, 8516.90.50.00, 8516.90.80.50, 8517.70.00.00, 8529.90.73.00, 8529.90.97.60, 8536.90.80.85, 8538.10.00.00, 8543.90.88.80, 8708.29.50.60, 8708.80.65.90, 8803.30.00.60, 9013.90.50.00, 9013.90.90.00, 9401.90.50.81, 9403.90.10.40, 9403.90.10.50, 9403.90.10.85, 9403.90.25.40, 9403.90.25.80, 9403.90.40.05, 9403.90.40.10, 9403.90.40.60, 9403.90.50.05, 9403.90.50.10, 9403.90.50.80, 9403.90.60.05, 9403.90.60.10, 9403.90.60.80, 9403.90.70.05, 9403.90.70.10, 9403.90.70.80, 9403.90.80.10, 9403.90.80.15, 9403.90.80.20, 9403.90.80.41, 9403.90.80.51, 9403.90.80.61, 9506.11.40.80, 9506.51.40.00, 9506.51.60.00, 9506.59.40.40, 9506.70.20.90, 9506.91.00.10, 9506.91.00.20, 9506.91.00.30, 9506.99.05.10, 9506.99.05.20, 9506.99.05.30, 9506.99.15.00, 9506.99.20.00, 9506.99.25.80, 9506.99.28.00, 9506.99.55.00, 9506.99.60.80, 9507.30.20.00, 9507.30.40.00, 9507.30.60.00, 9507.90.60.00, and 9603.90.80.50.

The subject merchandise entered as parts of other aluminum products may be classifiable under the following additional Chapter 76 subheadings: 7610.10, 7610.90, 7615.19, 7615.20, and 7616.99, as well as under other HTSUS chapters. In addition, fin evaporator coils may be classifiable under HTSUS numbers: 8418.99.80.50 and 8418.99.80.60. While HTSUS subheadings are provided for convenience and customs purposes, the written description of the scope of this Order is dispositive.

Analysis of Comments Received

All issues raised in the case and rebuttal briefs filed by parties in this review are addressed in the Issues and Decision Memorandum, which is incorporated herein by reference. A list of the issues which parties raised, and to which we respond in the Issues and Decision Memorandum, follows in the appendix to this notice. The Issues and Decision Memorandum is a public document and is on file electronically via Enforcement and Compliance's Antidumping and Countervailing Duty Centralized Electronic Service System (ACCESS). ACCESS is available to registered users at https://access.trade.gov and is available to all parties in the Central Records Unit, room B8024 of the main Department of Commerce building. In addition, a complete version of the Issues and Decision Memorandum can be accessed directly on the Internet at http://enforcement.trade.gov/frn/index.html. The signed Issues and Decision Memorandum and the electronic version of the Issues and Decision Memorandum are identical in content.

Changes Since the Preliminary Results

The Department reconsidered the necessity of applying adverse facts available (AFA), pursuant to sections 776(a) and (b) of the Tariff Act of 1930 (the Act), in the Preliminary Results with respect to Jangho and Guang Ya Group/Zhongya/Xinya ¹⁰ in light of the Department's policy concerning the conditional review of the PRC-wide entity.¹¹ For additional explanation, see the Issues and Decision Memorandum at “Application of Facts Available and Use of Adverse Inference.” In addition, one company, JMA, withdrew from participation in this administrative review after the Preliminary Results.

¹⁰ In prior segments of this proceeding, the Department found that Guang Ya Group, Zhongya, and Xinya were affiliated with each other and should be treated as a single entity. See, e.g., Aluminum Extrusions From the People's Republic of China: Final Results of Antidumping Duty Administrative Review and Rescission, in Part, 2010/12, 79 FR 96 (January 2, 2014) (2010-2012 Final Results); Aluminum Extrusions From the People's Republic of China: Final Results of Antidumping Duty Administrative Review; 2012-2013, 79 FR 78784 (December 31, 2014) (2012-2013 Final Results); and Aluminum Extrusions From the People's Republic of China: Final Results of Antidumping Duty Administrative Review; 2013-2014, 80 FR 75060 (December 1, 2015) (2013-2014 Final Results). See also Zhaoqing New Zhongya Aluminium Co., Ltd. v. United States, 70 F. Supp. 3d 1298 (CIT May 27, 2015) and Zhaoqing New Zhongya Aluminum Co., Ltd. et al. v. United States, 887 F. Supp. 2d 1301, 1310 (CIT 2012).

¹¹ See Antidumping Proceedings: Announcement of Change in Department Practice for Respondent Selection in Antidumping Duty Proceedings and Conditional Review of the Nonmarket Economy Entity in NME Antidumping Duty Proceedings, 78 FR 65963, 65970 (November 4, 2013) (Conditional Review of NME Entity Notice).

Companies Eligible for a Separate Rate

In our Preliminary Results, we determined that nine companies were eligible for a separate rate.¹² These companies are: Allied Maker Limited; Birchwoods (Lin'an) Leisure Products Co., Ltd.; Changzhou Changzheng Evaporator Co., Ltd.; Dongguan Aoda Aluminum Co., Ltd.; JMA (HK) Company Limited (JMA); Kam Kiu Aluminium Products Sdn. Bhd.; Metaltek Group Co., Ltd.; Taishan City Kam Kiu Aluminium Extrusion Co., Ltd.; and Tianjin Jinmao Import & Export Corp., Ltd. We received no information since the issuance of the Preliminary Results that provides a basis for reconsideration of this determination. Therefore, the Department continues to find that these nine companies are eligible for a separate rate. For further discussion with respect to the application of a separate rate to JMA, see the Issues and Decision Memorandum at Comment 2.

¹² See Preliminary Results, 81 FR at 38666.

Rate for Non-Examined Companies Which Are Eligible for a Separate Rate

The separate rate for non-selected companies is normally the amount equal to the weighted average of the calculated weighted-average dumping margins established for mandatory respondents, excluding any margins that are zero, de minimis, or based entirely on adverse facts available.¹³ In the Preliminary Results,¹⁴ consistent with the Department's practice when addressing such a factual scenario,¹⁵ we assigned the non-examined, separate-rate companies a rate that was not zero, de minimis, or based entirely on facts available. Specifically, we assigned the non-examined, separate-rate companies a margin of 86.01 percent, the sole margin calculated in the most recently completed segment of this proceeding for the mandatory respondent and applied to the non-examined separate-rate respondents in that segment of the proceeding.¹⁶ No parties commented on the methodology for calculating this separate rate.¹⁷ For the final results, we continue to apply this approach in accordance with section 735(c)(5) of the Act.¹⁸

¹³ Neither the Tariff Act of 1930, as amended (the Act) nor the Department's regulations address the establishment of the rate applied to individual separate rate companies not selected for examination where the Department limited its examination in an administrative review pursuant to section 777A(c)(2) of the Act. The Department's practice in administrative reviews involving limited selection based on exporters accounting for the largest volumes of exports has been to look to section 735(c)(5) of the Act for guidance, which provides instructions for calculating the all-others rate in an antidumping investigation.

¹⁴ See Preliminary Results, 81 FR at 38666.

¹⁵ See Narrow Woven Ribbons With Woven Selvedge From Taiwan; Final Results of Antidumping Duty Administrative Review; 2013-2014, 81 FR 22578 (April 18, 2016) and accompanying Issues and Decision Memorandum at Comment 1; see also Ball Bearings and Parts Thereof From France, Germany, Italy, Japan, and the United Kingdom: Final Results of Antidumping Duty Administrative Reviews and Rescission of Reviews in Part, 73 FR 52823, 52824 (September 11, 2008) and accompanying Issues and Decision Memorandum at Comment 16. This is also consistent with the Department's determination in prior segments of this proceeding. See 2010-2012 Final Results, 79 FR at 99; 2012-2013 Final Results, 79 FR at 78786; and 2013-2014 Final Results, 80 FR at 75062. See also Yangzhou Bestpak Gifts & Crafts Co., Ltd. v. United States, 716 F.3d 1370, 1374 (Fed. Cir. 2013) (recognizing and affirmatively discussing the Department's normal methodology for calculating a separate rate).

¹⁶ See 2013-2014 Final Results, 80 FR at 75062-75063.

¹⁷ We note that, while Petitioner commented on the rate to assign to one company found to be eligible for a separate rate, JMA, Petitioner's comments were specific to circumstances involving JMA, not the Department's overall methodology for determining the rate to assign to non-examined separate-rate companies. For further discussion with respect to the application of a separate rate to JMA, see the Issues and Decision Memorandum at Comment 2.

¹⁸ As explained in the Issues and Decision Memorandum in the section “Application of Facts Available and Use of Adverse Inference,” the Department finds for these final results that the application of AFA to the two mandatory respondents in this review, Jangho and Guang Ya Group/Zhongya/Xinya, is not necessary in light of the Department's recent change in practice concerning the conditional review of the PRC-wide entity. Under this policy, the PRC-wide entity will not be under review unless a party specifically requests, or the Department self-initiates, a review of the entity. See Conditional Review of NME Entity Notice, 78 FR at 65970. Because no party requested a review of the PRC-wide entity in this review, the entity is not under review and the entity's rate from the most-recently completed administrative review (i.e., 33.28 percent) is not subject to change. See 2013-2014 Final Results, 80 FR at 75063. While we no longer find it necessary to apply AFA to Jangho and Guang Ya Group/Zhongya/Xinya, we note that the 33.28 percent rate applicable to the PRC-wide entity (which includes to Jangho, Guang Ya Group/Zhongya/Xinya, and 23 other companies subject to this review) was determined on the basis of AFA. See Aluminum Extrusions From the People's Republic of China: Final Determination of Sales at Less Than Fair Value, 76 FR 18524, 18529 (April 4, 2011).

Determination of No Shipments

In the Preliminary Results, the Department determined that Xin Wei Aluminum Company Limited and Permasteelisa Hong Kong Limited had no shipments during the POR.¹⁹ No party commented on that determination and we have received no information to contradict this determination. Therefore, the Department continues to determine that Xin Wei Aluminum Company Limited and Permasteelisa Hong Kong Limited had no shipments of subject merchandise during the POR, and will issue appropriate liquidation instructions to U.S. Customs and Border Protection (CBP) that are consistent with our “automatic assessment” clarification, for these final results.²⁰

¹⁹ See Preliminary Results, 81 FR at 38666. We note that we did not make a preliminary determination of no shipments with regard to Permasteelisa South China Factory because Permasteelisa South China Factory was not granted separate rate status in a prior segment of this proceeding. See, e.g., 2013-2014 Final Results, 80 FR at 75063, footnote 30. Our determination concerning Permasteelisa South China Factory remains unchanged for these final results.

²⁰ See Non-Market Economy Antidumping Proceedings: Assessment of Antidumping Duties, 76 FR 65694, 65695 (October 24, 2011) (Assessment Practice Refinement).

PRC-Wide Entity

For purposes of these final results, the Department finds that Jangho and Guang Ya Group/Zhongya/Xinya are not eligible for a separate rate and are part of the PRC-wide entity. For a full explanation, see the Issues and Decision Memorandum at 5-6.

In addition, the Department found in the Preliminary Results that 21 companies subject to this review were not eligible for separate-rate status because they did not submit separate-rate applications or certifications; those companies are: Belton (Asia) Development Ltd.; Classic & Contemporary Inc.; Danfoss Micro Channel Heat Exchanger (Jia Xing) Co., Ltd.; Dongguan Golden Tiger Hardware Industrial Co., Ltd.; Ever Extend Ent. Ltd.; Fenghua Metal Product Factory; FookShing Metal & Plastic Co. Ltd.; Foshan Golden Source Aluminum Products Co., Ltd.; Global Point Technology (Far East) Limited; Gold Mountain International Development Limited; Golden Dragon Precise Copper Tube Group, Inc.; Hebei Xusen Wire Mesh Products Co., Ltd.; Jackson Travel Products Co., Ltd.; New Zhongya Aluminum Factory; Shanghai Automobile Air-Conditioner Accessories Co., Ltd.; Southwest Aluminum (Group) Co., Ltd.; Suzhou NewHongJi Precision Part Co., Ltd.; Union Aluminum (SIP) Co.; Whirlpool Canada L.P.; Whirlpool Microwave Products Development Ltd.; and Xin Wei Aluminum Co.²¹ The Department also found in the Preliminary Results that two companies subject to this review, Atlas Integrated Manufacturing Ltd. and Genimex Shanghai, Ltd., submitted separate-rate applications that did not demonstrate eligibility for a separate rate.²² As a result, the Department found in the Preliminary Results that these 23 companies are also part of the PRC-wide entity.²³ For purposes of these final results, the Department continues to find that these 23 companies are not eligible for a separate rate and are part of the PRC-wide entity.

²¹ Id., 81 FR at 38665. We note that one company, Zhaoqing New Zhongya Aluminum Co., Ltd. (New Zhongya), was determined to have been succeeded by Guangdong Zhongya Aluminum Company Limited (Guangdong Zhongya) in a changed circumstances review. See Aluminum Extrusions From the People's Republic of China: Final Results of Changed Circumstances Review, 77 FR 54900 (September 6, 2012). Thus, despite the fact that a review was initiated of New Zhongya, it is not being included among these 21 companies because its successor in interest, Guangdong Zhongya, is part of the Guang Ya Group/Zhongya/Xinya single entity.

²² See Preliminary Results, 81 FR at 38665.

²³ Id., 81 FR at 38667.

Under the Department's policy regarding conditional review of the PRC-wide entity, the PRC-wide entity will not be under review unless a party specifically requests, or the Department self-initiates, a review of the entity.²⁴ Because no party requested a review of the PRC-wide entity in this review, the entity is not under review and the entity's rate from the previous administrative review (i.e., 33.28 percent) is not subject to change.²⁵

²⁴ See Conditional Review of NME Entity Notice, 78 FR at 65970.

²⁵ See 2013-2014 Final Results, 80 FR at 75063.

Adjustments for Countervailable Subsidies

Because no mandatory respondent established eligibility for an adjustment under section 777A(f) of the Act for countervailable domestic subsidies, the Department, for these final results, did not make an adjustment pursuant to section 777A(f) of the Act for countervailable domestic subsidies for the separate-rate recipients.²⁶

²⁶ See Preliminary Decision Memorandum at 20.

Pursuant to section 772(c)(1)(C) of the Act, the Department made an adjustment for countervailable export subsidies for the separate-rate recipients. Specifically, we adjusted the assigned separate rate by deducting the simple average of the countervailable export subsidies determined for the individually examined respondents in the 2013 countervailing duty administrative review.²⁷

²⁷ See Aluminum Extrusions From the People's Republic of China: Final Results, and Partial Rescission of Countervailing Duty Administrative Review; 2013, 80 FR 77325 (December 14, 2015) and Aluminum Extrusions From the People's Republic of China: Amended Final Results of Countervailing Duty Administrative Review; 2013, 81 FR 15238 (March 22, 2016), as corrected in Aluminum Extrusions from the People's Republic of China: Notice of Correction to Amended Final Results of Countervailing Duty Administrative Review; 2013, 81 FR 31227 (May 18, 2016). See also Preliminary Decision Memorandum at Attachment 1 for the calculation of the countervailable export subsidies deducted from the assigned separate rate.

For the PRC-wide entity, since the entity is not currently under review, no adjustments were warranted to its rate, as it is not subject to change.²⁸

²⁸ See Conditional Review of NME Entity Notice, 78 FR at 65970. As the rate for the PRC-wide entity is not subject to change in the instant review, the adjusted margin we are applying to the PRC-wide entity in the instant review, 33.18 percent, is net of the countervailable domestic and export subsidies determined in the 2012-2013 Final Results. See 2012-2013 Final Results, 79 FR at 78787; see also 2013-2014 Final Results, 80 FR at 75063, footnote 27.

Final Results of Review

The Department determines that the following weighted-average dumping margins exist for the 2014-2015 POR:

Exporter | Weighted- Average dumping margin (percent) | Margin adjusted for liquidation and cash deposit purposes (percent)
Allied Maker Limited | 86.01 | 85.94
Birchwoods (Lin'an) Leisure Products Co., Ltd | 86.01 | 85.94
Changzhou Changzheng Evaporator Co., Ltd | 86.01 | 85.94
Dongguan Aoda Aluminum Co., Ltd | 86.01 | 85.94
JMA (HK) Company Limited | 86.01 | 85.94
Kam Kiu Aluminium Products Sdn Bhd ²⁹ | 86.01 | 85.94
Metaltek Group Co., Ltd | 86.01 | 85.94
Tianjin Jinmao Import & Export Corp., Ltd | 86.01 | 85.94

Additionally,²⁹ the Department determines for these final results that the following companies are part of the PRC-wide entity: Jangho (which includes Guangzhou Jangho Curtain Wall System Engineering Co., Ltd. and Jangho Curtain Wall Hong Kong Ltd.); Guang Ya Group/Zhongya/Xinya (which includes Guang Ya Aluminium Industries Co., Ltd.; Foshan Guangcheng Aluminium Co., Ltd.; Kong Ah International Company Limited; Guang Ya Aluminium Industries (Hong Kong) Ltd.; Guangdong Zhongya Aluminium Company Limited; Zhongya Shaped Aluminium (HK) Holding Limited; Karlton Aluminum Company Ltd.; and Xinya Aluminum & Stainless Steel Product Co., Ltd.); Atlas Integrated Manufacturing Ltd.; Belton (Asia) Development Ltd.; Classic & Contemporary Inc.; Danfoss Micro Channel Heat Exchanger (Jia Xing) Co., Ltd.; Dongguan Golden Tiger Hardware Industrial Co., Ltd.; Ever Extend Ent. Ltd.; Fenghua Metal Product Factory; FookShing Metal & Plastic Co. Ltd.; Foshan Golden Source Aluminum Products Co., Ltd.; Genimex Shanghai, Ltd.; Global Point Technology (Far East) Limited; Gold Mountain International Development Limited; Golden Dragon Precise Copper Tube Group, Inc.; Hebei Xusen Wire Mesh Products Co., Ltd.; Jackson Travel Products Co., Ltd.; New Zhongya Aluminum Factory; Shanghai Automobile Air-Conditioner Accessories Co., Ltd.; Southwest Aluminum (Group) Co., Ltd.; Suzhou NewHongJi Precision Part Co., Ltd.; Union Aluminum (SIP) Co.; Whirlpool Canada L.P.; Whirlpool Microwave Products Development Ltd.; and Xin Wei Aluminum Co. The rate established for the PRC-wide entity in the previous administrative review is 33.28 percent.³⁰

²⁹ Although the Department initiated a review for both Taishan City Kam Kiu Aluminium Extrusion Co., Ltd. and Kam Kiu Aluminium Products Sdn Bhd, it is apparent from the company's separate-rate certification that Kam Kiu Aluminium Products Sdn Bhd is the exporter and Taishan City Kam Kiu Aluminium Extrusion Co., Ltd. is a producer only; thus, Kam Kiu Aluminium Products Sdn Bhd is the appropriate party to which to grant the separate rate status.

³⁰ See 2013-2014 Final Results, 80 FR at 75063-75064.

Assessment

Pursuant to section 751(a)(2)(A) of the Act and 19 CFR 351.212(b), the Department will determine, and CBP shall assess, antidumping duties on all appropriate entries of subject merchandise in accordance with the final results of this review. The Department intends to issue assessment instructions to CBP 15 days after the date of publication of the final results of review in the Federal Register. Consistent with the Department's assessment practice in NME cases, if the Department determines that an exporter under review had no shipments of subject merchandise, any suspended entries that entered under the exporter's case number (i.e., at that exporter's rate) will be liquidated at the PRC-wide rate.³¹ For the companies eligible for a separate rate, the Department will instruct CBP to assess antidumping duties on the company's entries of subject merchandise at the rates listed above in the section “Final Results of Review.”

³¹ See Assessment Practice Refinement, 76 FR at 65694.

Cash Deposit Requirements

The following cash deposit requirements will be effective upon publication of the final results of this administrative review for all shipments of the subject merchandise from the PRC entered, or withdrawn from warehouse, for consumption on or after the publication date, as provided for by section 751(a)(2)(C) of the Act: (1) For the companies eligible for a separate rate, the cash deposit rate will that listed above in the section “Final Results of Review;” (2) for previously investigated or reviewed PRC and non-PRC exporters not listed above that received a separate rate in a prior segment of this proceeding, the cash deposit rate will continue to be the exporter-specific rate published for the most-recently completed segment of this proceeding in which the exporter was reviewed; (3) for all PRC exporters of subject merchandise which have not been found to be entitled to a separate rate, the cash deposit rate will be that established for the PRC-wide entity, which is 33.28 percent; ³² and (4) for all non-PRC exporters of subject merchandise which have not received their own rate, the cash deposit rate will be the rate applicable to the PRC exporter that supplied that non-PRC exporter with the subject merchandise. These deposit requirements, when imposed, shall remain in effect until further notice.

³² See 2013-2014 Final Results, 80 FR at 75063.

Notification to Importers

This notice serves as a final reminder to importers of their responsibility under 19 CFR 351.402(f)(2) to file a certificate regarding the reimbursement of antidumping duties and/or countervailing duties prior to liquidation of the relevant entries during this POR. Failure to comply with this requirement could result in the Department's presumption that reimbursement of antidumping duties and/or countervailing duties occurred and the subsequent assessment of doubled antidumping duties.

Notification to Interested Parties Regarding Administrative Protective Order

This notice also serves as the only reminder to parties subject to administrative protective order (APO) of their responsibility concerning the disposition of proprietary information disclosed under APO in accordance with 19 CFR 351.305(a)(3), which continues to govern business proprietary information in this segment of the proceeding. Timely written notification of the return or destruction of APO materials or conversion to judicial protective order is hereby requested. Failure to comply with the regulations and the terms of an APO is a sanctionable violation.

We are issuing and publishing this notice in accordance with sections 751(a)(1) and 777(i)(1) of the Act and 19 CFR 351.213(h).

Dated: November 21, 2016.
Paul Piquado,
Assistant Secretary for Enforcement and Compliance.

Appendix

List of Topics Discussed in the Issues and Decision Memorandum

Summary

Background

Scope of the Order

Application of Facts Available and Use of Adverse Inference

Discussion of the Issues

Comment 1: Rate to Assign to Jangho

Comment 2: Rate to Assign to JMA

Conclusion

[FR Doc. 2016-28502 Filed 11-25-16; 8:45 am]

BILLING CODE 3510-DS-P